ENVIRONMENTAL PROTECTION AGENCY

[ER-FRL-6631-5]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 564-7167.

An explanation of the ratings assigned to draft environmental impact statements (EISs) was published in FR dated April 12, 2002 (67 FR 17992).

Draft EISs

ERP No. D-AFS-L65396-ID Rating LO, Mann Creek Vegetation Management and Watershed Restoration Project, Implementation, Payette National Forest, Weiser Ranger District, Washington County, ID.

Summary: EPA expressed a lack of objections to the proposal.

ERP No. D-AFS-L65400-ID Rating LO, The West Gold Creek Project, Forest Management Activities Plan, Implementation, Idaho Panhandle National Forests, Sandpoints Ranger District, Bonner County, ID.

Summary: EPA expressed a lack of objections to the proposal.

ERP No. D-FHW-D40317-VA Rating EC2, Capital Beltway Study, Transportation Improvements to the 14-mile Section Capital Beltway (I-495) between the I-95/I-395/I-495 Interchange and the American Legion Bridge, Fairfax County, VA.

Summary: EPA expressed environmental concern regarding impacts to residences and businesses and the inability of the proposed alternatives to provide a long-term solution to congestion problems. EPA has identified several issues that need to be more thoroughly explained in the Final EIS.

ERP No. D-FHW-F40406-00 Rating EC1, Ironton-Russell Bridge Replacement Project, LAW-93C-0.00, PID 17359, Structurally-Deficient and Functionally-Obsolete Bridge Replacement, Funding, NPDES, US Coast Guard Section 9 Bridge Permits and US Army COE Section 10 and 404 Permits Issuance, Lawrence County, OH and Greenup County, KY.

Summary: EPA recognizes that the preferred alternative will impact cultural resources, waters of the United States, hazardous material sites, and will require relocations. EPA requests the inclusion of clarifying information in the FEIS.

ERP No. D-FHW-J40155-CO Rating EC2, CO-9 (Frisco to Breckenridge) Highway Improvements Project to Improve a 14.5-kilometer (9-mile) stretch of CO-9 between the Towns of Frisco and Breckenridge to Decrease Travel Time, Improve Safety, Support Transportation needs of Local and Regional Travelers, Funding, Right-of-Way and US Army COE Section 404 Permits, Summit County, CO.

Summary: EPA expressed environmental concerns regarding direct, indirect and cumulative impacts to wetlands, Iynx, and the mountain ecosystem as a result of growth. EPA is concerned that adequate mitigation and environmentally-preferred alternatives were not fully addressed.

ERP No. D-FTA-G40170-TX Rating LO, Northwest Corridor Light Rail Transit (LRT) Line to Farmers Branch and Carrollton, Construction and Operation, NPDES and US Army COE Section 404 Permits Issuance, Dallas Area Rapid Transit, Dallas and Denton Counties, TX.

Summary: EPA has no objections to the selection of the preferred alternative as described in the DEIS, but requests that additional information be included in the FEIS to strengthen the overall NEPA analysis.

ERP No. D-NPS-K65239-AZ Rating EC2, Tonto National Monument, General Management Plan, New Administrative Facility Construction within the Monument Boundaries, Implementation, AZ.

Summary: EPA expressed environmental concerns due to potential impacts to surface/ground water quality from the existing septic tank system and construction-related activities and because the EIS did not reflect a range of feasible mitigation to reduce potential adverse impacts consistent with pollution prevention guidance.

ERP No. D-USA-E11050-KY Rating LO, Blue Grass Army Depot, Destruction of Chemical Munitions, Design, Construction, Operation and Closure of a Facility to Destroy the Chemical Agent and Munitions, Madison County, KY.

Summary: EPA has no objections to the demilitarization proposal or the various technologies which will be used to accomplish this proposal.

ERP No. DS-AFS-L65232-OR Rating NS, Deep Vegetation Management Project, Implementation, Additional Information on Four Alternatives, Ochoo National Forest, Paulina Ranger District, Crook and Wheeler Counties, OR.

Summary: EPA Region 10 used a screening tool to conduct a limited review of this action. Based upon this screen, EPA does not foresee having any environmental objections to the proposed project. Therefore, EPA will not be conducting a detailed review.

ERP No. DS-FHW-D40295-WV Rating EC2, New River Parkway Project, New and Relevant Information, Design, Construction and Management between I-64 Interchanges to Hinton, Raleigh and Summers Counties, WV.

Summary: EPA has environmental concerns regarding the mitigation measures proposed to offset the potential secondary and cumulative impacts likely to occur with project implementation. EPA requests additional information and details regarding the proposed measures.

Final EISs

ERP No. F-AFS-D65024-PA, Lewis Run Project, Management Strategies for Road Construction and Reconstruction, Timber Management Activities, Soil and Water Improvements, Wildlife Habitat Enhancements and Recreation Improvements, Implementation, Lewis Run Project Area, Bradford Ranger District, Allegheny National Forest, McKean County, PA.

Summary: EPA's prior comments on the draft EIS have been adequately addressed in this document. Therefore, EPA concurs with your analysis of impacts and findings.

ERP No. F-AFS-L36113-WA, Upper Charley Subwatershed Ecosystem Restoration Projects, Implementation, Pomeroy Ranger District, Umatilla National Forest, Garfield County, WA.

Summary: EPA has no objection to the proposed action, as this document adequately responded to EPA's previous comments on the draft EIS.

ERP No. F-AFS-L65382-ID, Meadow Face Stewardship Pilot Project, Implementation, Nez Perce National Forest, Clearwater Ranger District, Idaho County, ID.

Summary: No formal comment letter was sent to the preparing agency.

ERP No. F-FTA-L54004-WA, Sound Transit, Lakewood-to-Tacoma Commuter Rail and WA-512 Park and Ride Expansion, Construction and Operation, Central Puget Sound Regional Transit Authority, City of Tacoma and City of Lakewood, WA.

Summary: No formal comment letter was sent to the preparing agency.

Dated: July 23, 2002.
Joseph C. Montgomery,
Director, NEPA Compliance Division, Office of Federal Activities.

[FR Doc. 02-19009 Filed 7-25-02; 8:45 am]

BILLING CODE 6560-50-P